DEPARTMENT OF ENERGY

Notice of Floodplain and Wetlands Involvement for the Proposed Transfer of Parcel ED-1 to the Community Reuse Organization of East Tennessee

AGENCY: Oak Ridge Operations, U.S. Department of Energy.

ACTION: Notice of floodplain and wetlands involvement.

SUMMARY: The U.S. Department of Energy (DOE), Oak Ridge Operations (ORO) is proposing to transfer title of Parcel ED-1 (also known as the Horizon Center) to the Community Reuse Organization of East Tennessee (CROET). Parcel ED-1 consists of approximately 957 acres located on the Oak Ridge Reservation, Roane County, Tennessee. A portion of Parcel ED-1 is located within the 100-year floodplain of East Fork Poplar Creek (EFPC). The parcel also contains five wetlands that were identified during a U.S. Army Corps of Engineers (COE) survey in 1991-1992. The total acreage of the wetlands is about 3.5 acres and all five wetlands are within the 100-year floodplain of EFPC. In accordance with 10 CFR 1022, Compliance with Floodplain/Wetlands Environmental Review Requirements, DOE will prepare a floodplain and wetlands assessment and will perform this proposed action in a manner that will avoid or minimize potential harm to or within the affected floodplain and wetlands.

DATES: Comments on the wetlands assessment are due to the address below no later than July 5, 2002.

ADDRESSES: Comments should be addressed to Mr. David R. Allen, U.S. Department of Energy, P.O. Box 2001, MS-SE-30-1, Oak Ridge, TN 37831. Comments may also be faxed to (865) 576-0746.

FOR FURTHER INFORMATION ON THIS PROPOSED ACTION, CONTACT: Mr. David R. Allen, NEPA Compliance Officer, U.S. Department of Energy, Oak Ridge Operations Office, P.O. Box 2001, MS-SE-30-1, Oak Ridge, TN 37831, (865) 576-0411.

FOR FURTHER INFORMATION ON GENERAL DOE FLOODPLAIN/WETLANDS ENVIRONMENTAL REVIEW REQUIREMENTS, CONTACT: Carol M. Borgstrom, Director, Office of NEPA Policy and Assistance, EH-42, U.S. Department of Energy, 1000 Independence Avenue SW, Washington, DC 20585, (202) 586-4600 or (800) 472-2756.

SUPPLEMENTARY INFORMATION: DOE proposes to transfer title of Parcel ED-1 to CROET. CROET has leased Parcel ED-1 since 1998 for development of an industrial/business park. Under the proposed transfer, CROET would continue the development of the parcel as an industrial/business park for research and development, medical technology, manufacturing, distribution, and corporate headquarters office facilities. The developable portion of the parcel consists of seven major development areas, ranging in size from 11 to 148 acres. The remaining property, which contains the 100-year floodplain of EFPC and the five wetlands, is protected as a Natural Area. Conditions of the deed and transfer agreement will ensure continued protection of the Natural Area.

The potentially affected 100-year floodplain property lies along EFPC and its tributaries within Parcel ED-1. The five wetlands identified in the COE survey of the EFPC floodplain in 1991-1992 total about 3.5 acres. Hydrology in these wetlands is associated with the backwater of Watts Bar Reservoir; however, some upstream input comes from springs and surface runoff. Vegetation ranges from open water to herbaceous, shrub, and forest and includes sedges, jewelweed, smartweed, buttonbush, silky dogwood, box elder, green ash, and sycamore. One wetland contains an active beaver colony with two beaver dams and a beaver lodge at the confluence of a tributary to EFPC. Beaver activity has apparently increased the size of this wetland from that which was delineated in the 1991-1992 surveys.

Under the current lease CROET encroached upon the 100-year floodplain of EFPC during construction of culverts, bridges, and roads as part of its development of the parcel. These activities were conducted under the appropriate state and federal permits. Upon transfer of Parcel ED-1, additional minor encroachments of the floodplain may be necessary for further development of the parcel. The existing wetlands within Parcel ED-1 have not been disturbed by development activities and would continue to be protected. No additional wetlands have been identified within the parcel in areas proposed for development.

The proposed action is transfer of the entire Parcel ED-1. However, as an option DOE could choose to only transfer the developable areas of Parcel ED-1. The remaining property would stay under DOE ownership and control. Another option is to transfer all of Parcel ED-1 except for the 100-year floodplain of EFPC, which would remain under DOE ownership and control in order to address possible requirements under the Comprehensive Environmental Response, Compensation, and Liability Act of 1980 (CERCLA), which may be identified in the future. For purposes of comparison it was determined that if DOE chose not to transfer Parcel ED-1 (i.e., no action) the current lease with CROET would continue.

Issued in Oak Ridge, Tennessee on May 30th, 2002.
David R. Allen,
NEPA Compliance Officer.

[FR Doc. 02-15561 Filed 6-19-02; 8:45 am]

BILLING CODE 6450-01-P